NATIONAL SCIENCE FOUNDATION

U.S. Chief Financial Officer Council; Grants Policy Committee

ACTION: Notice of open stakeholder webcast meeting.

SUMMARY: This notice announces an open stakeholder webcast meeting sponsored by the Grants Policy Committee (GPC) of the U.S. Chief Financial Officers Council.

DATES: The GPC will hold a webcast meeting on Tuesday, March 18, 2008 from 2-3:30 p.m., Eastern Time. The webcast will be broadcast live.

ADDRESSES: The GPC March 18 webcast meeting will be broadcast from and held in Room B-180 of the U.S. Department of Housing and Urban Development (HUD), 451 7th Street, SW., Washington, DC 20410. Seating is limited—the first 50 people to respond, and receive confirmation of the response, can be part of the live audience. Both federal and non-federal employees must R.S.V.P. to reserve your seat by contacting Charisse Carney-Nunes at: GPCWebcast@nsf.gov. All who have reserved seating must arrive at the HUD building fifteen minutes prior to broadcast (arrive on the North side of the building). You must have a photo ID to gain access and will have to go through the security screening. The GPC encourages non-federal organizations staffs and members to attend the nesting in person or via webcast.

Overview: This webcast will serve several purposes: (1) To update the public on the status of the pilot that will be conducted in furtherance of the Federal Financial Accountability and Transparency Act (FFATA) to collect federal grantee subaward data; (2) to allow the public an opportunity to discuss the Performance Progress Report (PPR) Form, and ask any remaining questions about its status and proposed use; and (3) to update the public on the GPC's strategic planning process, and share broad milestones for the development of GPC potential future products. GPC leadership will be available for a question & answer period after the presentations.

Further Information About the GPC Webcast: Questions on the webcast should be directed to Charisse Carney-Nunes, National Science Foundation, 4201 Wilson Boulevard, Arlington, VA 22230; e-mail, GPCWebcast@nsf.gov. Information and materials that pertain to this webcast meeting, including the call-in telephone number and the agenda will be posted on the Grants Policy Committee/Federal Grants Streamlining Initiative Web site at: http://www.grants.gov/aboutgrants/grants_news.jsp under ``March 18 Meeting Materials.'' The link to view the webcast will be posted on this site, along with Webcast instructions. After the meeting, a link to its recording will be posted on the GPC/FGSI Web site for at least 90 days.

Comments Submission Information: You may submit comments during the webcast meeting via telephone or e-mail. The call-in telephone number, which may be used only DURING the live webcast, is 202-708-0995. The e-mail address for comments, which should be used only DURING the webcast is HUDTV@HUD.GOV. The e-mail address for comments after the webcast is GPC Webcast@nsf.gov. You may submit after webcast comments via e-mail through close of business Tuesday, April 1, 2008.

SUPPLEMENTARY INFORMATION: This webcast meeting has been made possible by the cooperation of the National Science Foundation, HUD, and the GPC.

Webcast Materials: Webcast materials including the agenda, the GPC's draft Strategic Plan, its list of potential future projects, webcast meeting slides, and feedback form are posted under the March 18, 2008 meeting materials. http://www.grants.gov/aboutgrants/grants news.jsp.

Purpose of the webcast meeting: The purpose of the Webcast meeting is threefold: (1) To update the public on the status of the pilot that will be conducted in furtherance of the FFATA to collect federal grantee subaward data; (2) to allow the public an opportunity to discuss the PPR Form, and ask any remaining questions about its status and proposed use; and (3) to update the public on the GPC's strategic planning process, and share broad milestones for the development of GPC potential future products. GPC leadership will be available for a question & answer period after the presentations.

Meeting structure and agenda:The March 18 webcast meeting will have the following structure and agenda:

(1) Welcome by the host agency;

(2) FFATA Subaward Pilot update;

(3) Post Award Work Group update regarding the PPR;

(4) Update on GPC strategic planning and product development;

(5) Participants' discussion, questions and comments.

Background: The GPC is a committee of the U.S. Chief Financial Officers (CFO) Council. The Office of Management and Budget (OMB) sponsors the GPC; its membership consists of grants policy subject matter experts from across the Federal government. The GPC is charged with improving the management of Federal financial assistance government-wide. To carry out that role, the committee recommends financial assistance policies and practices to OMB and coordinates related interagency activities. The GPC serves the public interest in collaboration with other Federal-wide grants initiatives.

Dated: February 21, 2008.
Thomas Cooley,
Chair, Grants Policy Committee of the U.S. Chief Financial Officer Council.

[FR Doc. 08-860 Filed 2-26-08; 8:45 am]

BILLING CODE 7555-01-M